DEPARTMENT OF ENERGY

Federal Energy Regulatory Commission

[Docket No. CP14-530-000]

Southern Star Central Gas Pipeline, Inc.; Notice of Request Under Blanket Authorization

Take notice that on August 6, 2014, Southern Star Central Gas Pipeline, Inc. (Southern Star), pursuant to its blanket certificate authorization granted on September 30, 1982, in Docket No. CP82-479-000,¹ filed an application in accordance to sections 157.205, 157.210, 157.211 and 157.216(b) of the Commission's Regulations under the Natural Gas Act (NGA) as amended, requesting authority to replace approximately 6.01 miles of existing 12-inch XT pipeline by constructing approximately 6.01 miles of 20-inch XM pipeline in Johnson County, Missouri. The proposed pipeline is a part of a project that Southern Star proactively committed in 2008 to a multi-year plan to replace the approximately 18.93 remaining miles of 1930s-vintage 12-inch XT pipeline, all as more fully set forth in the application which is on file with the Commission and open to public inspection.

¹ 20 FERC ¶ 62,592 (1982).

The existing 12-inch XT pipeline was constructed in 1930s for the purpose of providing natural gas service to market areas between Ottawa, Kansas and Sedalia, Missouri and to the communities of Carrollton and Marshall in Missouri. Sections of the pipeline have been replaced over a period of years for various reasons including when required by the Department of Transportation (DOT) and as needed to eliminate obsolete, acetylene-welded pipe. The proposed 6.01 miles of 20-inch XM pipeline is the final component in the multi-year program of replacing the entire 12-inch XT pipeline. Southern Star plans to abandon the existing 12-inch XT pipeline in-place. The proposed pipeline will be constructed approximately 25 feet from and parallel to the existing pipeline. Southern Star proposes to operate the 20-inch XM pipeline to a maximum operating pressure (MOP) of 720 psig.² Southern Start states that the entire 20-inch XM pipeline does not provide any additional firm capacity upstream due to constrains through the Ottawa and Peculiar compressor stations. The total estimated cost of the proposed project is $21,007,847.

² The proposed 20-inch XM pipeline will be hydrostatically tested at a maximum allowable operating pressure (MAOP) of 960 psig.

Any questions concerning this application may be directed to Phyllis K. Medley, Senior Analyst, Regulatory Compliance, Southern Star Central Gas Pipeline, Inc., 4700 State Highway 56, Owensboro, Kentucky 42301, by phone at (270) 852-4653, or fax at (270) 852-5010, or by email to phyllis.k.medley@sscgp.com .

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866)206-3676, or, for TTY, contact (202)502-8659. Comments, protests and interventions may be filed electronically via the Internet in lieu of paper. See, 18 CFR 385.2001(a)(1)(iii) and the instructions on the Commission's Web site under the “e-Filing” link. The Commission strongly encourages intervenors to file electronically.

Pursuant to section 157.9 of the Commission's rules, 18 CFR 157.9, within 90 days of this Notice, the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Dated: August 13, 2014.
Kimberly D. Bose,
Secretary.

[FR Doc. 2014-19667 Filed 8-19-14; 8:45 am]

BILLING CODE 6717-01-P